DEPARTMENT OF THE INTERIOR

Bureau of Land Management

[AZA 33447]

Public Land Order No. 7730; Withdrawal of National Forest System Land for the Red Rock Ranger District Administrative Site; Arizona

Correction

In notice document E9-2632 appearing on page 6417 in the issue of February 9, 2009, make the following correction:

In the second column, beneath subheading “Gila and Salt River Meridian”, the third line should read:

E½SE¼NE¼.

[FR Doc. Z9-2632 Filed 2-12-09; 8:45 am]

BILLING CODE 1505-01-D